Title 3—

The President

Proclamation 10377 of April 29, 2022

Asian American, Native Hawaiian, and Pacific Islander Heritage Month, 2022

By the President of the United States of America

A Proclamation

During Asian American, Native Hawaiian, and Pacific Islander Heritage Month, our Nation recognizes the innumerable contributions, vibrant cultures, and rich heritage of Asian Americans, Native Hawaiians, and Pacific Islanders (AA and NHPIs). As some of the fastest-growing racial and ethnic groups in the Nation, AA and NHPI communities represent a multitude of ethnicities, languages, and experiences that enrich America and strengthen our Union.

AA and NHPIs have long played an essential role in writing the American story. From serving our country in uniform, advocating for civil rights, starting new businesses, and winning Olympic medals, the contributions of the AA and NHPI community touch the lives of Americans every day. AA and NHPIs serve with distinction at the highest levels of Federal, State, and local government. I am proud to have Vice President Kamala Harris, the first person of South Asian descent to serve as Vice President, and Katherine Tai, the first Asian American United States Trade Representative, in my Administration.

As we celebrate AA and NHPI communities, we must also redouble our commitment to combating the surge of anti-Asian hate crimes. The First Lady and I shared the Nation's outrage as we witnessed these crimes increase by 339 percent last year compared to the year before in cities across America. Many other incidents of anti-Asian bias, xenophobia, and harassment that surfaced throughout the COVID-19 pandemic were not even reported. We cannot allow these horrific acts to continue threatening the safety of AA and NHPI Americans—especially women, girls, and the elderly. These acts are wrong; they are un-American; and they must stop.

In my first week in office, I directed all executive departments and agencies to combat xenophobia, hate, and discrimination against AA and NHPI communities. I also signed into law last May the COVID-19 Hate Crimes Act to provide law enforcement with resources to identify, investigate, and report hate crimes and ensure that hate crimes information is more accessible to AA and NHPI communities.

As we work to ensure that hatred has no safe harbor in America's future, we must confront shameful chapters in our history. That is why, for example, I signed into law the Amache National Historic Site Act—to memorialize the 10,000 Japanese Americans who were unjustly imprisoned at Amache during World War II. And we will continue to root out racial injustices of our past and advance equity for all Americans as we move forward.

Toward that aim, my Administration is making long-overdue investments in AA and NHPI communities. I reestablished and expanded the President's Advisory Commission and the White House Initiative on Asian Americans, Native Hawaiians, and Pacific Islanders. The American Rescue Plan helped reduce poverty among AA and NHPI families by approximately 26 percent. We have increased access to capital, training, and counseling for AA and NHPI entrepreneurs so their businesses can thrive. We are also working to ensure that healthcare resources are available to AA and NHPI communities. And we are rebuilding our immigration system so everyone is treated fairly and humanely—including AA and NHPI communities.

This month, we celebrate our fellow Americans from AA and NHPI communities and pay tribute to all they have done to help fulfill the promise of America for all. Together, let us recommit ourselves to building a country in which every American—regardless of who they are, where they come from, or what they look like—has an equal opportunity to thrive.

NOW, THEREFORE, I, JOSEPH R. BIDEN JR., President of the United States of America, by virtue of the authority vested in me by the Constitution and the laws of the United States, do hereby proclaim May 2022 as Asian American, Native Hawaiian, and Pacific Islander Heritage Month. I call upon all Americans to learn more about the history of AA and NHPIs, and to observe this month with appropriate programs and activities.

IN WITNESS WHEREOF, I have hereunto set my hand this twenty-ninth day of April, in the year of our Lord two thousand twenty-two, and of the Independence of the United States of America the two hundred and forty-sixth.

[FR Doc. 2022-09756

Filed 5-4-22; 8:45 am]

Billing code 3395-F2-P